DEPARTMENT OF DEFENSE

Department of the Army

[Docket ID USA-2012-0011]

Privacy Act of 1974; System of Records

AGENCY: Department of the Army, DoD.

ACTION: Notice to reinstate two systems of records.

SUMMARY: The Department of the Army proposes two reinstate a systems of records in its inventory of record systems to the Privacy Act of 1974 (5 U.S.C. 552a), as amended. After review, it has been determined that the records covered under these previously deleted notices (see 77 FR 13571-13573 and 77 FR 13573-13574, March 7, 2012) are not covered elsewhere as stated; therefore these notices are being reinstated.

DATES: This proposed action will be effective on October 15, 2012 unless comments are received which result in a contrary determination. Comments will be accepted on or before October 15, 2012.

ADDRESSES: You may submit comments, identified by docket number and title, by any of the following methods:

• Federal Rulemaking Portal: http://www.regulations.gov. Follow the instructions for submitting comments.

• Mail: Federal Docket Management System Office, 4800 Mark Center Drive, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Leroy Jones, Jr., Department of the Army, Privacy Office, U.S. Army Records Management and Declassification Agency, 7701 Telegraph Road, Casey Building, Suite 144, Alexandria, VA 22315-3827 or by phone at 703-428-6185.

SUPPLEMENTARY INFORMATION: The Department of the Army system of records notices subject to the Privacy Act of 1974 (5 U.S.C. 552a), as amended, have been published in the Federal Register and are available from the address in FOR FURTHER INFORMATION CONTACT.

The Department of the Army proposes to reinstate two systems of records in its inventory of records systems subject to the Privacy Act of 1974 (5 U.S.C. 552a), as amended. The previous system of records notice is being republished in its entirety, below. The reinstatement is not within the purview of subsection (r) of the Privacy Act of 1974 (5 U.S.C. 552a), as amended, which requires the submission of a new or altered system report.

Dated: September 11, 2012.
Aaron Siegel,
Alternate OSD Federal Register Liaison Officer, Department of Defense.

A0015-34 AHRC

System name:

Army Civilian/Military Service Review Board.

System location:

U.S. Army Human Resources Command, 1 Reserve Way, St. Louis, MO 63132-5200.

Categories of individuals covered by the system:

Civilians or contractual personnel (or their survivors) who were members of a group certified to have performed active military service with the Armed Forces of the United States.

Categories of records in the system:

Application of individuals for recognition of service, evidence that supports claim of membership in an approved group, name, address, date of birth, social security number, action of the Army Civilian/Military Service Review Board, Certificate of Release or Discharge from Active Duty, Honorable Discharge Certificate, General Discharge Certificate, and/or Report of Casualty as appropriate, and similar relevant documents.

Authority for maintenance of the system:

10 U.S.C. 3013, Secretary of the Army; 38 U.S.C. 106, Certain service deemed to be active service; Public Law 105-368, Veterans Benefits Enhancement Act of 1998; Public Law 95-202, GI Bill Improvement Act; DoD Directive 1000.20, Active Duty Service Determinations for Civilian or Contractual Groups; Army Regulation 15-34 Department of the Army Individual Service Review Board; and E.O. 9397 (SSN).

Purpose(s):

To determine whether individual applicants were members of civilian or contractual groups approved as having rendered service to the Army and whose service constitutes active military service, and to issue appropriate discharge or casualty documents, including applicable pay and equivalent rank or grade.

Routine uses of records maintained in the system, including categories of users and the purposes of such uses:

In addition to those disclosures generally permitted under 5 U.S.C. 552a(b) of the Privacy Act of 1974, these records contained therein may specifically be disclosed outside the DoD as a routine use pursuant to 5 U.S.C. 552a(b)(3) as follows: Copy of Certificate of Release or Discharge from Active Duty is furnished to the Department of Veterans Affairs for benefit entitlements.

The DoD Blanket Routine Uses set forth at the beginning of the Army's compilation of systems of records notices apply to this system.

Policies and practices for storing, retrieving, accessing, retaining, and disposing of records in the system:

Storage:

Papers stored in file folders.

Retrievability:

By applicant's surname.

Safeguards:

Information is accessible only to designated persons having official need therefore in the performance of their duties. During non-duty hours, guards assure that records areas are secured.

Retention and disposal:

Control cards are permanent; maintain in current file area for 20 years then offer to National Archives and Records Administration, 700 Pennsylvania Avenue NW., Washington, DC 20408. Approved requests result in the creation of an Official Military Personnel File, containing Certificate of Release or Discharge from Active Duty, Honorable Discharge Certificate, General Discharge Certificate, and/or Report of Casualty as appropriate, which is retired permanently, to National Personnel Records Center, 9700 Page Avenue, St. Louis, MO 63132-5100. Documentation relating to disapproved requests are maintained for 2 years then destroyed.

System manager(s) and address:

Commander, U.S. Army Human Resources Command, 1 Reserve Way, St. Louis, MO 63132-5200.

Notification procedure:

Individuals seeking to determine whether information about themselves is contained in this system should address written inquiries to the Commander, U.S. Army Human Resources Command, 1 Reserve Way, St. Louis, MO 63132-5200.

For verification purposes, individual should provide the full name at the time of the recognized military service, date and place of birth, details concerning affiliation with group certified to have performed active duty with the Army, and signature.

Record access procedures:

Individuals seeking access to information about themselves contained in this system should address written inquiries to the Commander, U.S. Army Human Resources Command, 1 Reserve Way, St. Louis, MO 63132-5200.

For verification purposes, individual should provide the full name at the time of the recognized military service, date and place of birth, details concerning affiliation with group certified to have performed active duty with the Army, and signature.

Contesting record procedures:

The Army's rules for accessing records, contesting contents, and appealing initial agency determinations are published in Army Regulation 340-21; 32 CFR part 505; or may be obtained from the system manager.

Record source categories:

From the individual.

Exemptions claimed for the system:

None.

A0602 AHRC-ARI

System name:

Behavioral and Social Sciences Research Project Files.

System location:

U.S. Army Research Institute for the Behavioral and Social Sciences, 5001 Eisenhower Avenue, Alexandria, VA 22333-5600 and field offices located at Fort Benning, GA; Boise, ID; Mannheim, Germany; Naval Training Center, Orlando, FL; Fort Hood, TX; Fort Knox, KY; Fort Leavenworth, KS; Fort Bragg, NC; and Fort Rucker, AL. Official mailing addresses are published as an appendix to the Army's compilation of record system notices.

Categories of individuals covered by the system:

Current and former officer, warrant officer, and enlisted military personnel, including Army Reservists and National Guard; family members of the above service members; civilian employees of Department of Defense; and samples of civilians from the general U.S. population who are surveyed to determine why people do or do not consider military service as a career or a short-term employment option.

Categories of records in the system:

Service member: Individual's name and Social Security Number, Army personnel records and questionnaire-type data relating to service member's pre-service education, work experience and social environment and culture, learning ability, physical performance, combat readiness, discipline, motivation, attitude about Army life, and measures of individual and organizational adjustments; test results from Armed Services Vocational Aptitude Battery and Skill Qualification Tests.

Non-service member: Individual's name and Social Security Number, and questionnaire type data relating to non-service member's education, work experience, motivation, knowledge of and attitude about the Army. When records show military service or marriage to a service member, the appropriate non-service records will be linked to the service record.

Authority for maintenance of the system:

5 U.S.C. 301, Departmental Regulations; 10 U.S.C. 3013, Secretary of the Army; 10 U.S.C. 2358, Research and Development Projects; and E.O. 9397 (SSN), as amended.

Purpose(s):

To research manpower, personnel, and training dimensions inherent in the recruitment, selection, classification, assignment, evaluation, and training of military personnel; to enhance readiness effectiveness of the Army by developing personnel management methods, training devices, and testing of weapons methods and systems aimed at improved group performance. (No decisions affecting an individual's rights or benefits are made using these research records).

Routine uses of records maintained in the system, including categories of users and the purposes of such uses:

In addition to those disclosures generally permitted under 5 U.S.C. 552a(b) of the Privacy Act of 1974, these records or information contained therein may specifically be disclosed outside the DoD as a routine use pursuant to 5 U.S.C. 552a(b)(3) as follows:

The DoD Blanket Routine Uses set forth at the beginning of the Army's compilation of systems of records notices also apply to this system.

Policies and practices for storing, retrieving, accessing, retaining, and disposing of records in the system:

Storage:

Paper records in file folders, CD-ROM, computer disks, and magnetic tape.

Retrievability:

By individual's name and/or Social Security Number. For research purposes, the data are usually retrieved and analyzed with respect to relative times of entry into service, training performance, and demographic values. Scheduled data for follow-up data collections however, are retrieved by month of scheduled follow-up and by name.

Safeguards:

Access to records is restricted to authorized personnel having official need therefore. Automated data are further protected by controlled system procedures and code numbers governing access.

Retention and disposal:

Information is retained until completion of appropriate study or report, after which it is destroyed by shredding or erasing.

System manager(s) and address:

Director, U.S. Army Research Institute for Behavioral and Social Sciences, ATTN: AHRC-ARI-ASZ, 5001 Eisenhower Avenue, Alexandria, VA 22333-5600.

Notification procedure:

Individuals seeking to determine if information about themselves is contained in this record system should address written inquiries to the Director, U.S. Army Research Institute for Behavioral and Social Sciences, ATTN: AHRC-ARI-ASZ, 5001 Eisenhower Avenue, Alexandria, VA 22333-5600.

Individual should provide the full name, Social Security Number, current address, subject area, and the year of survey, if known.

Record access procedures:

Individuals seeking access to records about themselves contained in this record system should address written inquiries to the Director, U.S. Army Research Institute for Behavioral and Social Sciences, ATTN: AHRC-ARI-ASZ, 5001 Eisenhower Avenue, Alexandria, VA 22333-5600.

Individual should provide the full name, Social Security Number, current address, subject area, and the year of survey, if known.

Contesting record procedures:

The Army's rules for accessing records, and for contesting contents and appealing initial agency determinations are contained in Army Regulation 340-21; 32 CFR part 505; or may be obtained from the system manager.

Record source categories:

From the individual, his or her peers, or, in the case of ratings and evaluations, from supervisors.

Exemptions claimed for the system:

None.

[FR Doc. 2012-22718 Filed 9-13-12; 8:45 am]

BILLING CODE 5001-06-P